Title 3—

The President

Notice of November 5, 2015

Notice of Intention To Enter Into the Trans-Pacific Partnership Agreement

Consistent with section 106(a)(1)(A) of the Bipartisan Congressional Trade Priorities and Accountability Act of 2015 (Public Law 114-26, Title I; the “Trade Priorities Act”), I have notified the Congress of my intention to enter into a free trade agreement, known as the Trans-Pacific Partnership (TPP) Agreement, which will generate export opportunities for U.S. manufacturers, service suppliers, farmers, ranchers, and businesses; help create jobs in the United States; and help American consumers save money while offering them more choices. I am negotiating to enter into the TPP Agreement with the following countries: Australia, Brunei Darussalam, Canada, Chile, Japan, Malaysia, Mexico, New Zealand, Peru, Singapore, and Vietnam; provided that those countries meet the market-access goals that we set out to achieve and agree to high-standard obligations, consistent with the Trade Priorities Act.

Consistent with section 106(a)(1)(A) of the Trade Priorities Act, this notice shall be published in the Federal Register.

THE WHITE HOUSE,

November 5, 2015.

[FR Doc. 2015-28709

Filed 11-6-15; 11:15 am]

Billing code 3295-F6-P